DEPARTMENT OF COMMERCE

Foreign-Trade Zones Board

[B-2-2023]

Foreign-Trade Zone (FTZ) 76—Bridgeport, Connecticut; Notification of Proposed Production Activity; MannKind Corporation; (Pharmaceuticals: Treprostinil) Danbury, Connecticut

MannKind Corporation submitted a notification of proposed production activity to the FTZ Board (the Board) for its facilities in Danbury, Connecticut within Subzone 76B. The notification conforming to the requirements of the Board's regulations (15 CFR 400.22) was received on January 6, 2023.

Pursuant to 15 CFR 400.14(b), FTZ production activity would be limited to the specific finished product(s) described in the submitted notification (summarized below) and subsequently authorized by the Board. The benefits that may stem from conducting production activity under FTZ procedures are explained in the background section of the Board's website—accessible via www.trade.gov/ftz. The proposed finished product(s) would be added to the production authority that the Board previously approved for the operation, as reflected on the Board's website.

The proposed finished products are inhalable Treprostinil and blister packaged Treprostinil (duty rates are duty-free).

Public comment is invited from interested parties. Submissions shall be addressed to the Board's Executive Secretary and sent to: ftz@trade.gov. The closing period for their receipt is February 22, 2023.

A copy of the notification will be available for public inspection in the “Online FTZ Information System” section of the Board's website.

For further information, contact Juanita Chen at juanita.chen@trade.gov.

Dated: January 9, 2023.
Elizabeth Whiteman,
Acting Executive Secretary.

[FR Doc. 2023-00564 Filed 1-12-23; 8:45 am]

BILLING CODE 3510-DS-P